DEPARTMENT OF ENERGY

Federal Energy Regulatory Commission

Notice of Application and Applicant Prepared Environmental Assessment Accepted for Filing and Soliciting Motions To Intervene and Protests

May 4, 2001.

Take notice that the following hydroelectric application and Applicant Prepared Environmental Assessment (APEA) has been filed with the Commission and is available for public inspection:

a. Type of Application: Major New License (Non-power).

b. Project No.: 2852-015.

c. Date filed: February 27, 2001.

d. Applicant: New York State Electric & Gas Corporation.

e. Name of Project: Keuka Project.

f. Location: The project is located on the Waneta and Lamoka Lakes, Keuka Lake, and Mud Creek, in Steuben and Schuyler Counties, New York. The project would not utilize any federal lands or facilities.

g. Filed Pursuant to: Federal Power Act 16 USC 791(a)-825(r).

h. Applicant Contact: Mr. Robert L. Malecki; Manager, Licensing & Environmental Operations; New York State Electric & Gas Corporation; Corporate Drive, Kirkwood Industrial Park; Binghamton, NY 13902, (607) 762-7763; and Ms. Carol Howland, Project Environmental Specialist; New York State Electric & Gas Corporation; Corporate Drive, Kirkwood Industrial Park; Binghamton, NY 13902, (607) 762-8881.

i. FERC Contact: Any questions on this notice should be addressed to William Guey-Lee, E-mail address william. guylee@ferc.fed.us, or telephone (202) 219-2808.

j. Deadline for filing motions to intervene and protests: July 9, 2001.

All documents (original and eight copies) should be filed with: David P. Boergers, Secretary, Federal Energy Regulatory Commission, 888 First St. NE., Washington, DC 20426. Comments, protests, and motions to intervene may be filed electronically via the Internet in lieu of paper. See 18 CFR 385.2001(a)(1)(iii) and the instructions on the Commission's web site at http://www.ferc.fed.us/efi/doorbell.htm

The Commission's Rules of Practice and Procedure require all intervenors filing documents with the Commission to serve a copy of that document on each person whose name appears on the official service list for the project. Further, if an intervenor files comments or documents with the Commission relating to the merits of an issue that may affect the responsibilities of a particular resource agency, the intervenor must also serve a copy of the document on that resource agency.

k. Status of Environmental Analysis: The application is not ready for environmental analysis at this time. A subsequent notice will be issued stating that the application is ready for environmental analysis and will request comments, reply comments, recommendations, terms and conditions, and prescriptions at that time.

l. Description of Project: The project consists of the following: (1) The Bradford Dam with an overall length of about 580 feet and crest elevation of 1,099 feet msl, consisting of a concrete section, earthen embankments, outlet works, and spillway; (2) Waneta and Lamoka Lakes with surface areas of 781 acres and 826 acres at elevation 1,099 feet msl, and total storage of 27,200 acre-feet; (3) a 9,30-foot-long power canal having an average width of 48 feet and an average depth of 3 feet; (4) a twin gated concrete box culvert, know as Wayne Gates, measuring 8 feet high by 6 feet wide; and (5) a 70-foot-long by 16-foot-high headgate structure. Under the non-power license, the 3,450-foot-long, 4-foot-diameter concrete penstock, the 835-foot-long, 42-inch-diameter steel penstock, and the 2.0-MW generating unit would be removed.

m. Locations of the application: A copy of the application is available for inspection and reproduction at the Commission's Public Reference Room, located at 888 First Street, NE., Room 2A, Washington, DC 20426, or by calling (202) 208-1371. The application may be viewed on the web at www.ferc.fed.us. Call (202) 208-2222 for assistance. A copy is also available for inspection and reproduction at the address in item h above.

n. Protests or Motions to Intervene: Anyone may submit a protest or a motion to intervene in accordance with the requirements of the Rules of Practice and Procedures, 18 CFR 385.210, .211, and .214. In determining the appropriate action to take, the Commission will consider all protests filed, but only those who file a motion to intervene in accordance with the Commission's Rules may become a party to the proceeding. Any protests or motions to intervene must be received on or before the specified deadline date for the particular application and APEA.

o. All filings must: (1) Bear in all capital letters the title “PROTEST,” or “MOTION TO INTERVENE;” (2) set forth in the heading the name of the applicant and the project number of the application and APEA to which the filing responds; (3) furnish the name, address, and telephone number of the person submitting the filing; and (4) otherwise comply with the requirements of 18 CFR 385.2001 through 385.2005. Agencies may obtain copies of the application and APEA directly from the applicant. Any of these documents must be filed by providing the original and the number of copies required by the Commission's regulations to: Secretary, Federal Energy Regulatory Commission, 888 First Street, NE., Washington, DC 20426. An additional copy must be sent to: Director, Division of Environmental and Engineering Review, Office of Energy Projects, Federal Energy Regulatory Commission, at the above address. Each filing must be accompanied by proof of service on all persons listed on the service list prepared by the Commission in this proceeding, in accordance with 18 CFR 4.34(b) and 385.2010.

David P. Boergers,
Secretary.

[FR Doc. 01-11776 Filed 5-9-01; 8:45 am]

BILLING CODE 6717-01-M